DEPARTMENT OF DEFENSE

Office of the Secretary

[Docket ID: DoD-2021-OS-0085]

Privacy Act of 1974; System of Records

AGENCY: Defense Threat Reduction Agency (DTRA), Department of Defense (DoD).

ACTION: Notice of a modified system of records.

SUMMARY: The DTRA is modifying a system of records, titled “Nuclear Test Participants,” HDTRA 010. Each year, the DTRA uses this system of records to respond to over 700 atomic veteran radiogenic disease compensation inquiries from the Department of Justice (DOJ) and Department of Veterans Affairs (VA). The DTRA's responses include verification of participation in nuclear testing programs or military operations for presumptive claims, and radiation dose assessments for non-presumptive claims. The intended effect of modifying this SORN is to make updates associated with changes being made to the underlying information system that maintains these records.

DATES: This system of records modification is effective upon publication; however, comments on the Routine Uses will be accepted on or before September 17, 2021. The Routine Uses are effective at the close of the comment period.

ADDRESSES: You may submit comments, identified by docket number and, by any of the following methods:

• Federal Rulemaking Portal: https://www.regulations.gov.

Follow the instructions for submitting comments.

• Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Pamela Andrews, DTRA Privacy Officer, Officer of the General Counsel, Freedom of Information Act and Privacy Office (FOIA/PA), 8725 John J. Kingman Road, MSC 6201, Fort Belvoir, VA 22060 or by calling (703) 767-1792.

SUPPLEMENTARY INFORMATION:

I. Background

The DTRA is modifying the existing system of records to better reflect changes to the database that houses these records. The following sections of the system of records notice are being updated: security classification, purpose, categories of individuals, categories of records, record source categories, authorities, routine uses, storage, retrievability, safeguards, retention and disposal, system manager(s), notification procedures, record access procedures, and contesting record procedures.

DTRA personnel and other DoD components use these records to help the VA and DOJ respond to claims and to provide data to organizations responsible for studies concerning the health effects of ionizing radiation. These records are used by DTRA employees to respond to over 700 atomic veteran radiogenic disease compensation inquiries from the DOJ and the VA each year. DTRA personnel verify participation in nuclear testing programs or military operations for presumptive claims, and radiation dose assessments for non-presumptive claims. These modifications to the information system will increase DTRA's inquiry response accuracy while decreasing inquiry response time and improving information sharing with other government agencies.

The DoD notices for systems of records subject to the Privacy Act of 1974, as amended, have been published in the Federal Register and are available from the address in FOR FURTHER INFORMATION CONTACT or at the Defense Privacy, Civil Liberties, and Transparency Division website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, the DoD has provided a report of this system of records to the OMB and to Congress.

Dated: August 12, 2021.
Aaron T. Siegel,
Alternate OSD Federal Register Liaison Officer, Department of Defense.

SYSTEM NAME AND NUMBER:

Nuclear Test Participants, HDTRA 010.

SECURITY CLASSIFICATION:

Unclassified.

SYSTEM LOCATION:

Nuclear Test Personnel Review (NTPR) Office, Defense Threat Reduction Agency, 8725 John J. Kingman Road, Fort Belvoir, VA 22060-6201.

SYSTEM MANAGER(S):

NTPR Program Manager, Nuclear Test Personnel Review Office, Defense Threat Reduction Agency, 8725 John J. Kingman Road, Fort Belvoir, VA 22060-6201. Email Address: dtra-ntpr@mail.mil.

AUTHORITY FOR MAINTENANCE OF THE SYSTEM:

42 U.S.C. 2013, “Atomic Energy Act of 1954”; 42 U.S.C. 2210, “Radiation Exposure Compensation Act”; 38 U.S.C. 1154, “Certain Diseases and Disabilities; 38 CFR 3.309, “Disease Subject to Presumptive Service Connection”; 38 CFR 3.311, “Claims Based on Exposure to Ionizing Radiation”; and E.O. 9397 (SSN), as amended.

PURPOSE(S) OF THE SYSTEM:

These records comprise a comprehensive database containing information about participation and dose information for over 500,000 individuals involved in United States atmospheric nuclear testing (1945-1962), the military occupation forces of Hiroshima and Nagasaki, Japan, or those who were prisoners of war (POWs) in Japan at the conclusion of World War II. The system similarly supports an analogous 50,000 DoD personnel associated with U.S. underground nuclear weapon testing (1951-1992), and 6,000 DoD personnel associated with the radiological clean-up of the Pacific Proving Ground (1960s-1980). The NTRR Program has many elements designed to assist military and civilian test participants, to help the Department of Veterans Affairs (VA) and the Department of Justice (DOJ) in responding to atomic veteran radiogenic disease compensation claims, and to provide information to organizations responsible for studies concerning the health effects of ionizing radiation. These elements include the following: (a) Researching participation and establishing a register of DoD participants; (b) Collecting and analyzing all known sources of recorded dosimetry and radiation data applicable to participants, and reconstructing doses in cases where recorded doses are unavailable or incomplete; (c) Maintaining a comprehensive database of participation and dose information, along with supporting archival materials and documents; (d) Conducting an extensive public outreach program to ensure maximum interface with the supported participants; (e) Maintaining the history of each U.S. atmospheric nuclear weapons test operation; (f) Supporting studies to determine whether participants experience adverse health effects as a result of their test activities; and (g) Providing accurate and timely responses to requests for information from incoming inquiries.

CATEGORIES OF INDIVIDUALS COVERED BY THE SYSTEM:

Veterans and former DoD civilian participants of the U.S. nuclear testing programs from 1945 to 1992; U.S. military occupation forces assigned to Hiroshima or Nagasaki from August 6, 1945 to July 1, 1946; U.S. POWs in Japan at the conclusion of World War II; and DoD participants involved in the cleanup of the Pacific Proving Ground nuclear tests from the 1960s to 1980.

CATEGORIES OF RECORDS IN THE SYSTEM:

Name, service number, Social Security Number (SSN), date of birth, place of birth, gender, last known or current address, home/cell phone number, DoD ID number, dates and extent of test participation, radiation exposure data, unit of assignment, medical data, rank, grade, service affiliation, and documentation relative to administrative claims or civil litigation.

RECORD SOURCE CATEGORIES:

Retired Military Personnel records from the National Personnel Records Center, all versions of the US DTRA Form 150 from individuals voluntarily contacting DTRA or other elements of DoD or other Government Agencies by phone or mail. DoD historical records, dosimetry records, and records from the Department of Energy (DOE), the VA, the Social Security Administration, the Internal Revenue Service, and the Department of Health and Human Services (HHS).

ROUTINE USES OF RECORDS MAINTAINED IN THE SYSTEM, INCLUDING CATEGORIES OF USERS AND THE PURPOSES OF SUCH USES:

In addition to those disclosures generally permitted under 5 U.S.C. 552a(b) of the Privacy Act of 1974, as amended, all or a portion of the records or information contained herein may specifically be disclosed outside the DoD as a routine use pursuant to 5 U.S.C. 552a(b)(3):

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the DOJ for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration (NARA) for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

J. To the VA for the purpose of processing claims by individuals who allege service-connected disabilities as a result of participation in nuclear test programs or military operations, as well as litigation actions.

K. To the DOJ and the Department of Labor (DOL) for the purpose of processing claims by individuals alleging job-related disabilities as a result of participation in nuclear test programs or military operations, and for litigation actions.

L. To the DOE for the purpose of identifying DOE employees and contractor personnel who were, or may be in the future, involved in nuclear test programs or military operations and for DOE's use in processing claims or litigation actions.

M. To the HHS and Vanderbilt University for the purpose of conducting epidemiological studies on the effects of ionizing radiation on participants of nuclear test programs.

N. To the Veterans Board on Dose Reconstruction for the purpose of aiding officials reviewing and overseeing the DoD Radiation Dose Reconstruction Program.

POLICIES AND PRACTICES FOR STORAGE OF RECORDS:

Records may be stored electronically or on paper in secure facilities in a locked drawer behind a locked door. The records may be stored on magnetic disc, tape, or digital media; in agency-owned cloud environments; or in vendor Cloud Service Offerings certified under the Federal Risk and Authorization Management Program (FedRAMP).

POLICIES AND PRACTICES FOR RETRIEVAL OF RECORDS:

The records may be retrieved by name, SSN, DoD Identification Number, or any combination of the foregoing.

POLICIES AND PRACTICES FOR RETENTION AND DISPOSAL OF RECORDS:

Records are permanent. DTRA retains physical and legal custody for 75 years after case termination, then the records are transferred and accessioned to the NARA.

ADMINISTRATIVE, TECHNICAL AND PHYSICAL SAFEGUARDS:

Administrative: Backups secured off-site, encryption of backups containing sensitive data, methods to ensure only authorized personnel access to PII, periodic security audits, and records are limited to person(s) responsible for servicing the record in the performance of their official duties and who are properly screened and cleared for need-to-know. Technical: Encryption of data at rest, firewall, role-based access controls, Virtual Private Network (VPN), Common Access Card (CAC), encryption of data in transit, intrusion detection system (IDS), DoD public key infrastructure certificates, least privilege access, user identification and password. Physical safeguards: Cipher locks, combination locks, key card, security guards, closed circuit (CCTV), identification badges, safes. Security Guards and CCTV are used at some sites. Records are maintained in a controlled facility and entry is restricted by the use of security guards and intrusion alarm systems. Paper records, microfilm/fiche, and computer systems are accessible only by authorized personnel. Access to digital data requires user validation prior to use.

RECORD ACCESS PROCEDURES:

Individuals seeking access to information about themselves contained in this system of records should address written requests to the Defense Threat Reduction Agency, IT-KT (FOIA/Privacy Office), 8725 John J. Kingman Drive, Ft. Belvoir, VA 22060-6201. Signed written requests should include the individual's full name, telephone number, street address, email address, and name and number of this system of records notice (SORN). In addition, the requestor must provide either a notarized statement or a declaration made in accordance with 28 U.S.C. 1746, using the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

For personal visits to access records at DTRA, the individual will be required to provide a military or civilian identification card.

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

August 26, 2009, 74 FR 54975; May 11, 2012, 77 FR 27739.

[FR Doc. 2021-17694 Filed 8-17-21; 8:45 am]

BILLING CODE 5001-06-P